FEDERAL COMMUNICATIONS COMMISSION

Notice of Public Information Collection(s) Approved by the Office of Management and Budget

August 19, 2008.

SUMMARY: The Federal Communications Commission has received Office of Management and Budget (OMB) approval for the following public information collection(s) pursuant to the Paperwork Reduction Act of 1995 (44 U.S.C. 3501-3520). An agency may not conduct or sponsor a collection of information unless it displays a currently valid OMB control number, and no person is required to respond to a collection of information unless it displays a currently valid OMB control number. Comments concerning the accuracy of the burden estimate(s) and any suggestions for reducing the burden should be directed to the person listed in the FOR FURTHER INFORMATION CONTACT section below.

FOR FURTHER INFORMATION CONTACT: Leslie Haney, Leslie.Haney@fcc.gov, (202) 418-1002.

SUPPLEMENTARY INFORMATION: OMB Control Number: 3060-0805.

OMB Approval Date: July 2, 2008.

Expiration Date: July 31, 2011.

Title: 700 MHz Eligibility, Regional Planning Requirements, Interference Protection Criteria and 4.9 GHz Guidelines (47 CFR 90.523, 90.527, 90.545, and 90.1211).

Form No.: Not applicable.

Estimated Annual Burden: 21,116 responses; 2.89236 hours per response; 61,075 hours total per year.

Obligation to Respond: Mandatory (47 CFR 90.523); required to obtain or retain benefits (47 CFR 90.523, 90,527, and 90.545); and voluntary.

Nature and Extent of Confidentiality: There is no need for confidentiality.

Needs and Uses: Section 90.523 requires that nongovernmental organizations that provide services which protect the safety of life or property obtain a written statement from an authorizing state or local government entity to support the nongovernmental organization's application for assignment of 700 MHz frequencies. Section 90.527 requires 700 MHz regional planning committees to submit a plan for use of the 700 MHz general use spectrum in the consolidated narrowband segment 763-775 MHz and 793-805 MHz. It advocates a fair and open process in developing allocation assignments by requiring input from eligible entities in the allocation decisions and the application technical review/approval process. Entities that seek inclusion in the plan to obtain future licenses are considered third party respondents. Section 90.545 TV/DTV interference protection criteria, provides that public safety base, control and mobile transmitters in the 763-775 MHz and 793-805 MHz band applicants select one of three ways to meet the TV/DTV interference protection requirements: (1) By utilizing geographic separation in the rule; (2) submitting an engineering study to justify other separations, or (3) obtain concurrence from applicable TV/DTV station(s). Section 90.1211 authorizes the fifty-five 700 MHz regional planning committees to develop and submit on a voluntary basis a plan on guidelines for coordination procedures to facilitate the shared use of 4940-4990 MHz (4.9 GHz) band. Applicants are granted a geographic area license for the entire fifty MHz of 4.9 GHz spectrum over a geographical area defined by the boundaries of their jurisdiction—city, county or state. Accordingly, licensees are required to coordinate their operations in the shared band to avoid interference, a common practice when joint operations are conducted.

Commission staff will use the information to assign licenses, determine regional spectrum requirements and to develop technical standards. The information will also be used to determine whether prospective licensees operate in compliance with the Commission's rules. Without such information, the Commission could not accommodate regional requirements or provide for the efficient use of the available frequencies. Information provided to, or exchanged among, third parties will be used to establish eligibility and to prevent harmful interference. This information collection request includes rules to govern the operation and licensing of the 700 MHz and 4.9 GHz bands to ensure that licensees continue to fulfill their statutory responsibilities in accordance with the Communications Act of 1934, as amended. Such information will continue to be used to minimize interference, verify that applicants are legally and technically qualified to hold licenses, and to determine compliance with Commission rules.

Federal Communications Commission.
Marlene H. Dortch,
Secretary.

[FR Doc. E8-19655 Filed 8-22-08; 8:45 am]

BILLING CODE 6712-01-P